COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add product(s) and service(s) to the Procurement List that will be furnished by nonprofit agencies employing persons who are blind or have other severe disabilities previously furnished by such agencies.

DATES: Comments must be received on or before: September 10, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

7930-00-NIB-2226—Dispenser, Handheld, 1:40 Dilutions, Blue/White

7930-00-NIB-2227—Dispenser, Handheld, 1:128 and 1:256 Dilutions, Red/White

7930-00-NIB-2228—Degreaser, Heavy-Duty, All-Purpose, 2 Liter Bottle, Yellow

7930-00-NIB-2236—Cleaner, Bathroom, 2 Liter Bottle, Teal

7930-00-NIB-2237—Cleaner, Neutral, Floor, 2 Liter Bottle, Red

7930-00-NIB-2238—Cleaner, Glass, Mirror, 2 Liter Bottle, Blue

7930-00-NIB-2239—Cleaner, Multipurpose, 2 Liter Bottle, Clear

Designated Source of Supply: Lighthouse for the Blind and Visually Impaired, San Francisco, CA

Contracting Activity: FEDERAL ACQUISITION SERVICE, GSA/FSS GREATER SOUTHWEST ACQUISITI

Distribution: A-List

Mandatory for: Total Government Requirement

Service(s)

Service Type: Janitorial

Mandatory for: UNICOR, Federal Prison Industries, Inc., Central Office, Washington, DC

Designated Source of Supply: Fedcap Rehabilitation Services, Inc., New York, NY

Contracting Activity: FEDERAL PRISON INDUSTRIES/UNICOR, CO BUSINESS OFFICE

Michael R. Jurkowski,
Acting Director, Business Operations.

[FR Doc. 2023-17241 Filed 8-10-23; 8:45 am]

BILLING CODE 6353-01-P